SMALL BUSINESS ADMINISTRATION

[Disaster Declaration #21094 and #21095; MISSOURI Disaster Number MO-20011]

Presidential Declaration Amendment of a Major Disaster for the State of Missouri

AGENCY: U.S. Small Business Administration.

ACTION: Amendment 1.

SUMMARY: This is an amendment of the Presidential declaration of a major disaster for the State of Missouri (FEMA-4867-DR), dated May 21, 2025.

Incident: Severe Storms, Straight-line Winds, Tornadoes, and Wildfires.

DATES: Issued on June 6, 2025.

Incident Period: March 14, 2025, through March 15, 2025.

Physical Loan Application Deadline Date: July 22, 2025.

Economic Injury (EIDL) Loan Application Deadline Date: February 23, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: The notice of the President's major disaster declaration for the State of Missouri, dated May 21, 2025, is hereby amended to extend the deadline for filing applications for physical damages as a result of this disaster to July 22, 2025.

All other information in the original declaration remains unchanged.

(Catalog of Federal Domestic Assistance Number 59008)

James Stallings,
Associate Administrator, Office of Disaster Recovery & Resilience.

[FR Doc. 2025-10716 Filed 6-11-25; 8:45 am]

BILLING CODE 8026-09-P